DEPARTMENT OF HEALTH AND HUMAN SERVICES

National Institutes of Health

Center for Scientific Review; Amended Notice of Meeting

Notice is hereby given of a change in the meeting of the Center for Scientific Review Advisory Council, March 30, 2020, 8:30 a.m. to 3:00 p.m. at National Institutes of Health, 6700B Rockledge Drive, Conference Room A&B, Bethesda, MD 20817 which was published in the Federal Register on January 30, 2020, 85 FR 5459, and change in format published in the Federal Register on March 17, 2020, 85 FR 15206.

The meeting will be held at National Institutes of Health, 6701 Rockledge Drive, Bethesda, MD 20892, March 30, 2020, 1:00 p.m. to 3:00 p.m. This meeting will be held by videoconference only.

URL for virtual access: https://videocast.nih.gov.

For additional information, please visit: https://public.csr.nih.gov/AboutCSR/Organization/CSRAdvisoryCouncil.

The meeting is open to the public.

Dated: March 19, 2020.
Ronald J. Livingston, Jr.,
Program Analyst, Office of Federal Advisory Committee Policy.

[FR Doc. 2020-06209 Filed 3-24-20; 8:45 am]

BILLING CODE 4140-01-P